FEDERAL COMMUNICATIONS COMMISSION

47 CFR Part 54

[WC Docket Nos. 11-42, 09-197 and 10-90; Report No. 3027]

Petitions for Reconsideration of Action in Rulemaking Proceeding

AGENCY: Federal Communications Commission.

ACTION: Petition for reconsideration.

SUMMARY: Petitions for Reconsideration (Petitions) have been filed in the Commission's Rulemaking proceeding by Thomas C. Power, on behalf of CTIA—THE WIRELESS ASSOCIATION; John J. Heitmann on behalf of The Wireless ETC Petitioners.

DATES: Oppositions to the Petitions must be filed on or before September 17, 2015. Replies to an opposition must be filed on or before September 11, 2015.

ADDRESSES: Federal Communications Commission, 445 12th Street SW., Washington, DC 20554.

FOR FURTHER INFORMATION CONTACT: Jodie Griffin, Telecommunications Access Policy Division, Wireline Competition Bureau, (202) 418-7550, email: jodie.griffin@fcc.gov.

SUPPLEMENTARY INFORMATION: This is a summary of Commission's document, Report No. 3027, released August 26, 2015. The full text of the Petitions is available for viewing and copying in Room CY-B402, 445 12th Street SW., Washington, DC or may be accessed online via the Commission's Electronic Comment Filing System at http://apps.fcc.gov/ecfs/. The Commission will not send a copy of this Notice pursuant to the Congressional Review Act, 5 U.S.C. 801(a)(1)(A) because this notice does not have an impact on any rules of particular applicability.

Subject: Lifeline and Link Up Reform and Modernization, Telecommunications Carriers Eligible for Universal Service Support, Connect America Fund, published at 80 FR 40923, July 14, 2015, in WC Docket Nos. 11-42, 09-197, and 10-90, and published pursuant to 47 CFR 1.429(e). See also § 1.4(b)(1) of the Commission's rules.

Number of Petitions Filed: 2.

Federal Communications Commission.
Marlene H. Dortch,
Secretary.

[FR Doc. 2015-21763 Filed 9-1-15; 8:45 am]

BILLING CODE 6712-01-P